DEPARTMENT OF COMMERCE

Economic Development Administration

Agency Information Collection Activities; Submission for OMB Review; Comment Request; Property Management Requirements

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on November 21, 2024 during a 60-day comment period. This notice allows for an additional 30 days for public comments.

Agency: Economic Development Administration, Department of Commerce.

Title: Property Management Requirements.

OMB Control Number: 0610-0103.

Form Number(s): None.

Type of Request: Regular.

Number of Respondents: 150 (54 incidental use requests and 96 requests to release EDA's property interest each year).

Average Hours per Response: Each request takes an estimated 45 minutes initially, with an estimated two hours to provide additional documentation or respond to follow-up questions, if necessary.

Burden Hours: 412.5.

Needs and Uses: First, this collection of information allows EDA to determine whether an incidental use of property acquired or improved with EDA investment assistance is appropriate. Pursuant to 13 CFR 314.3(g), an incidental use of property: (1) does not interfere with the scope of the project or the economic purpose for which the investment was made; (2) provided that the recipient is in compliance with applicable law and the terms and conditions of the investment assistance, and (3) the incidental use of the property will not violate the terms and conditions of the investment assistance or otherwise adversely affect the economic useful life of the property. A recipient must request in writing EDA's approval to undertake an incidental use of property acquired or improved with EDA's investment assistance pursuant to. Second, this collection of information allows EDA to determine whether to release its real property or tangible personal property interests. If a recipient wishes for EDA to release its real property or tangible personal property interests before the expiration of the property's estimated useful life, the recipient must submit a written request to EDA. Pursuant to 13 CFR 314.10(c), the recipient must disclose to EDA the intended future use of the property for which the release is requested.

Affected Public: Current recipients of EDA awards, including: (1) cities or other political subdivisions of a state, including a special purpose unit of state or local government engaged in economic or infrastructure development activities; (2) states; (3) institutions of higher education; (4) public or private non-profit organizations or associations; (5) District Organizations; and (6) Indian Tribes.

Frequency: As necessary as determined by recipient need.

Respondent's Obligation: Mandatory.

Legal Authority: The Public Works and Economic Development Act of 1965 (42 U.S.C. 3121 et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0610-0103.

Sheleen Dumas,
Departmental PRA Compliance Officer, Office of the Under Secretary of Economic Affairs, Commerce Department.

[FR Doc. 2025-03114 Filed 2-25-25; 8:45 am]

BILLING CODE 3510-34-P